DEPARTMENT OF COMMERCE

National Oceanic and Atmospheric Administration

50 CFR Part 660

[Docket No. 180207141-8999-02]

RIN 0648-BH74

Magnuson-Stevens Act Provisions; Fisheries Off West Coast States; Pacific Coast Groundfish Fishery; Groundfish Bottom Trawl and Midwater Trawl Gear in the Trawl Rationalization Program

Correction

In rule document 2018-26194, appearing on pages 62269 through 62281, in the issue of Monday, December 3, 2018, make the following correction:

On page 62280, in the first column, instruction 11 should read, “11. In § 660.333, revise paragraphs (b)(1), (c)(1), and (d)(1) to read as follows:”.

[FR Doc. C1-2018-26194 Filed 12-13-18; 8:45 am]

BILLING CODE 1300-01-D